DEPARTMENT OF TRANSPORTATION

Federal Aviation Administration

14 CFR Part 121

[Docket Nos. 27065, 25148 and 26620; Amdt. No. 121-276]

RIN 2120-AG74

Antidrug and Alcohol Misuse Prevention Programs for Personnel Engaged in Specified Aviation Activities; Correction

AGENCY: Federal Aviation Administration (FAA), DOT.

ACTION: Final rule, technical amendment; correction.

SUMMARY: This document contains a correction to the final rule, published in the Federal Register on April 10, 2000 (65 FR 18886). That final rule corrects FAA office addresses listed in the Code of Federal Regulations regarding Drug Testing Programs and Alcohol Misuse Prevention Programs. The intended effect of this action is to ensure that the regulated public has correct information regarding FAA office addresses.

DATES: This correction is effective April 10, 2000.

FOR FURTHER INFORMATION CONTACT: Ralph Timmons, (202) 267-8442.

Correction of Publication

In final rule FR Doc. 00-8362, beginning on page 18886 in the Federal Register issue of April 10, 2000, make the following corrections:

1. On page 18886, in column 3, in the heading section, beginning on line 5, correct the amendment number to read, “Amendment No. 121-276”.

Issued in Washington, DC, on April 28, 2000.
Donald P. Byrne,
Assistant Chief Counsel, Regulations Division.

[FR Doc. 00-11164 Filed 5-4-00; 8:45 am]

BILLING CODE 4910-13-M